DEPARTMENT OF ENERGY

Federal Energy Regulatory Commission

[Project No. 12690-003]

Public Utility District No. 1 of Snohomish County, WA; Notice of Technical Meeting

a. Date and Time of Meeting: April 18, 2013; 10 a.m. Pacific Time (1:00 p.m. Eastern Time).

b. Place: Telephone conference call.

c. FERC Contact: Stephen Bowler, stephen.bowler@ferc.gov or (202) 502-6861.

d. Purpose of Meeting: Discuss the change in the description of the turbine braking system for the proposed Admiralty Inlet Pilot Tidal Project included by Public Utility District No. 1 of Snohomish County, Washington in their comments filed with the Commission on February 14, 2013 in regard to the Environmental Assessment issued by the Commission on January 15, 2013.

e. Proposed Agenda: 1. Introduction; 2. Meeting objectives; and 3. Turbine braking system.

f. A summary of the meeting will be prepared for the project's record.

g. All local, state, and federal agencies, Indian tribes, and other interested parties are invited to participate by phone. Please email Stephen Bowler at stephen.bowler@ferc.gov or call (202) 502-6861 by Monday, April 15, 2013, to RSVP and to receive specific instructions on how to participate.

Dated: March 27, 2013.
Kimberly D. Bose,
Secretary.

[FR Doc. 2013-07679 Filed 4-2-13; 8:45 am]

BILLING CODE 6717-01-P